DEPARTMENT OF THE INTERIOR

Bureau of Land Management

[WY-030-1310-DB]

Correction to Notice of Availability of the Draft Environmental Impact Statement for the Atlantic Rim Natural Gas Development Project

AGENCY: Bureau of Land Management, Interior.

ACTION: Notice of correction.

SUMMARY: On Monday, December 12, 2005, the Bureau of Land Management published a Notice of Availability of the Draft Environmental Impact Statement for the Atlantic Rim Natural Gas Development Project in the Federal Register [Vol. 70, No. 237, p. 73482]. The SUPPLEMENTARY INFORMATION on alternatives analyzed in detail contained naming errors. The correct information is as follows:

The Atlantic Rim DEIS analyzed four alternatives in detail:

1. The Proposed Action Alternative;

2. Alternative A, the No Action Alternative, which means the project as proposed would be rejected by the BLM;

3. Alternative B—Phased development; and,

4. Alternative C—Special protection of sensitive of sensitive resources.

“The agency's preferred alternative is a combination of Alternative B and C.”

These corrected alternative names also correct references to the alternatives for the remainder of the notice.

FOR FURTHER INFORMATION CONTACT: Mr. David Simons, Project Lead or Mr. Mark Storzer, Field Manager, BLM Rawlins Field Office. Mr. Simons and Mr. Storzer may be reached at (307) 328-4200.

Dated: December 27, 2005.
Robert A. Bennett,
State Director.

[FR Doc. E6-158 Filed 1-10-06; 8:45 am]

BILLING CODE 4310-22-P